Title 3—

The President

Executive Order 13805 of July 19, 2017

Establishing a Presidential Advisory Council on Infrastructure

By the authority vested in me as President by the Constitution and the laws of the United States of America, it is hereby ordered as follows:

Section 1. Policy. It shall be the policy of the executive branch to advance infrastructure projects that create high-quality jobs for American workers, enhance productivity, improve quality of life, protect the environment, and strengthen economic growth.

Sec. 2. Establishment of Council. There is established in the Department of Commerce the Presidential Advisory Council on Infrastructure (Council).

Sec. 3. Membership of Council. (a) The Council shall be composed of not more than 15 members. The members shall be appointed by the President and drawn from the public with relevant experience or subject-matter expertise to represent the interests of the following infrastructure sectors:

(i) real estate;

(ii) finance;

(iii) construction;

(iv) communications and technology;

(v) transportation and logistics;

(vi) labor;

(vii) environmental policy;

(viii) regional and local economic development; and

(ix) other sectors determined by the President to be of value to the Council.

(b) The President shall designate two Co-Chairs of the Council from among the Council's members. The Co-Chairs may designate one or more Vice Chairs from among the Council's members.

Sec. 4. Mission of Council. The Council shall study the scope and effectiveness of, and make findings and recommendations to the President regarding, Federal Government funding, support, and delivery of infrastructure projects in several sectors, including surface transportation, aviation, ports and waterways, water resources, renewable energy generation, electricity transmission, broadband, pipelines, and other such sectors as determined by the Council. In pursuing its mission, the Council shall make findings and recommendations concerning the following:

(a) prioritizing the Nation's infrastructure needs;

(b) accelerating pre-construction approval processes;

(c) developing funding and financing options capable of generating new infrastructure investment over the next 10 years;

(d) identifying methods to increase public-private partnerships for infrastructure projects, including appropriate statutory or regulatory changes;

(e) identifying best practices in and opportunities to improve procurement methods, grant procedures, and infrastructure delivery systems; and

(f) promoting advanced manufacturing and infrastructure-related technological innovation.

Sec. 5. Administration of Council. (a) The Department of Commerce shall provide the Council with such administrative support, including staff, facilities, equipment, and other support services, as may be necessary to carry out its mission.

(b) The Secretary of Commerce shall, within 60 days of the date of this order, submit questions to the Council for consideration in its work and report.

(c) Members of the Council shall serve without any additional compensation for their work on the Council. Members of the Council appointed from among private citizens of the United States, while engaged in the work of the Council, may be allowed travel expenses, including per diem in lieu of subsistence, to the extent permitted by law for persons serving intermittently in Government service (5 U.S.C. 5701-5707), consistent with the availability of appropriations.

(d) Insofar as the Federal Advisory Committee Act, as amended (5 U.S.C. App.) (Act), may apply to the Council, any functions of the President under that Act, except for those in section 6 and section 14 of that Act, shall be performed by the Secretary of Commerce, in accordance with the guidelines that have been issued by the Administrator of General Services.

Sec. 6. Report of Council. The Council shall submit to the President a report containing its findings and recommendations.

Sec. 7. Termination of Council. The Council shall terminate on December 31, 2018, unless extended by the President before that date, or within 60 days after submitting its report pursuant to section 6 of this order, whichever occurs first.

Sec. 8. General Provisions. (a) The heads of executive departments and agencies shall cooperate with and provide information to the Council as may be necessary to carry out the mission of the Council, consistent with applicable law.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

July 19, 2017.

[FR Doc. 2017-15680

Filed 7-24-17; 8:45 am]

Billing code 3295-F7-P